FEDERAL COMMUNICATIONS COMMISSION

47 CFR Part 73

[DA 05-2017; MB Docket No. 04-252, RM-11155]

Radio Broadcasting Services; Ajo, Mayer, Miami, Parker and Prescott Valley, AZ

AGENCY: Federal Communications Commission.

ACTION: Final rule.

SUMMARY: The Audio Division, at the request of Farmworker Educational Radio Network, Inc., licensee of Station KRIT(FM), Channel 230C3, Parker, Arizona, and 3 Point Media-Prescott Valley, LLC, licensee of Station KKLD(FM), Channel 252C2, Prescott Valley, Arizona, deletes Channel 230C3 at Parker, Arizona, Channel 252C2 at Prescott Valley, Arizona, Channel 252A at Miami, Arizona, and Channel 252A at Ajo, Arizona, from the FM Table of Allotments, allots Channel 224B1 at Parker, Arizona, Channel 252C at Mayer, Arizona, as the community's first local FM service, Channel 270A at Miami, Arizona, and Channel 295A at Ajo, Arizona, modifies the license of FM Station KRIT to specify operation on Channel 224B1 at Parker, Arizona, modifies the License of FM Station KKLD to specify operation on Channel 252C at Mayer, Arizona, and modifies the License of FM Station KQSS to specify operation on Channel 270A at Miami, Arizona. Channel 224B1 can be allotted to Parker, Arizona, in compliance with the Commission's minimum distance separation requirements with a site restriction of 15.5 km (9.6 miles) northeast of Parker. The coordinates for Channel 224B1 at Parker, Arizona, are 34-16-00 North Latitude and 114-12-00 West Longitude. Channel 252C can be allotted to Mayer, Arizona, with a site restriction of 18.1 km (11.2 miles) southwest of Mayer. The coordinates for Channel 252C at Mayer, Arizona, are 34-15-03 North Latitude and 112-19-11 West Longitude. Channel 270A can be allotted to Miami, Arizona, with a site restriction of 9.8 km (6.1 miles) northeast of Miami. The coordinates for Channel 270A at Miami, Arizona, are 33-28-31 North Latitude and 110-48-51 West Longitude. Channel 295A can be allotted to Ajo, Arizona, with a site restriction of 0.3 km (0.2 miles) northeast of Ajo. The coordinates for Channel 295A at Ajo, Arizona, are 32-22-27 North Latitude and 112-51-49 West Longitude. Parker, Mayer, Miami, and Ajo, Arizona, all are located within 320 kilometers (199 miles) of the Mexican border, and therefore Mexican concurrence in the allotment changes will be required. Although concurrence has been requested for these allotment changes, notification has not been received. If a construction permit is granted for any of these allotments prior to the receipt of formal concurrence in the corresponding channel allotment by the Mexican government, the construction permit for that channel will include the following condition. “Operation with the facilities specified for [name of community] herein is subject to modification, suspension, or termination without right to hearing, if found by the Commission to be necessary in order to conform to the USA-Mexico FM Broadcast Agreement, or if specifically objected to by the Government of Mexico.”

DATES: Effective August 29, 2005.

FOR FURTHER INFORMATION CONTACT: Deborah Dupont, Media Bureau, (202) 418-2180.

SUPPLEMENTARY INFORMATION: This is a synopsis of the Commission's Report and Order, MB Docket No. 04-252, adopted July 13, 2005, and released July 15, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 252A at Ajo and adding Channel 295A at Ajo, by adding Mayer, Channel 252C, by deleting Channel 252A at Miami and adding Channel 270A at Miami, by deleting Channel 230C3 at Parker and adding Channel 224B1 at Parker, and by deleting Channel 252C2 at Prescott Valley.

Federal Communications Commission.
John A. Karousos,
Assistant Chief, Audio Division, Media Bureau.

[FR Doc. 05-14956 Filed 8-2-05; 8:45 am]

BILLING CODE 6712-01-P